DEPARTMENT OF TRANSPORTATION

Federal Aviation Administration

Notice of Intent To Rule on Request for a Temporary Change in Use To Accommodate Vehicular Parking on a Section of the Active Aircraft Parking Apron, at Albany International Airport, Albany, NY

AGENCY: Federal Aviation Administration (FAA), DOT.

ACTION: Notice and request for comment.

SUMMARY: The FAA proposes to rule and invite public comment for a temporary change in use not to exceed 5 years to accommodate vehicular parking on a section of the aircraft parking apron to the immediate west of the terminal building, at Albany International Airport, Albany, NY.

DATES: Comments must be received on or before July 31, 2015.

ADDRESSES: Comments on this application may be mailed or delivered to the following address:

John O'Donnell, Chief Executive Officer, Albany International Airport, Albany County Airport Authority, Administration Building, Suite 200, Albany, NY 12211-1057, (518) 242-2222; and at the FAA New York Airports District Office: Evelyn Martinez, Manager, New York Airports District Office, 1 Aviation Plaza, Jamaica, NY 11434, (718) 995-5771.

FOR FURTHER INFORMATION CONTACT: Ryan Allen, Community Planner, New York Airports District Office, location listed above. (718) 995-5677.

The request for a temporary change in use not to exceed 5 years to accommodate vehicular parking on a section of the apron may be reviewed in person at the New York Airports District Office located at 159-30 Rockaway Blvd., Suite 111, Jamaica, NY 11434.

SUPPLEMENTARY INFORMATION: The FAA invites public comment on the request for a temporary change in use not to exceed 5 years, to accommodate vehicular parking on a section of the aircraft parking apron to the immediate west of the terminal at Albany International Airport under the provisions of 49 U.S.C. 47125(a). Based on a full review, the FAA determined that the request for a temporary change in use not to exceed 5 years to accommodate vehicular parking on a section of the active apron at Albany International Airport (ALB), NY, submitted by the Albany County Airport Authority, met the procedural requirements.

The following is a brief overview of the request:

The Authority requests the temporary conversion of approximately 2.88 acres of existing aircraft parking apron space to accommodate vehicular parking during main terminal overflow events for a time period not to exceed 5 years from the date of approval. The conversion would provide for approximately 200 additional parking spaces, and includes temporary perimeter fencing, ingress/egress gates, pavement markings, ticketing and payment stations, paving modifications, and temporary lighting and signage. As indicated in the sponsor request, the aircraft parking apron space in question is not currently utilized to capacity for its primary aviation function, which is transient overnight aircraft parking. There are currently other portions of the airport that can accommodate transient overnight parking if needed. The area will provide needed vehicular parking during overflow events, and the revenue generated will be used for airport purposes. All proceeds generated from the parking area must be used exclusively by the airport in accordance with 49 U.S.C. 47107(b) and the FAA's policy on revenue use.

Any person may inspect the request by appointment at the FAA office address listed above. Interested persons are invited to comment on the proposed 5 year temporary change of use from aeronautical to non-aeronautical. All comments will be considered by the FAA to the extent practicable.

Issued in Jamaica, New York, June 25, 2015.
Evelyn Martinez,
Manager, New York Airports District Office.

[FR Doc. 2015-16201 Filed 6-30-15; 8:45 am]

BILLING CODE 4910-13-P